DEPARTMENT OF COMMERCE

National Oceanic and Atmospheric Administration

Notice of Availability of a Draft Restoration Plan and Environmental Assessment for the M/V Kuroshima Oil Spill, Summer Bay, Unalaska, AK, Request for Comments

SUMMARY: Natural Resource Trustee agencies (Trustees) have developed a Draft Restoration Plan and Environmental Assessment (Draft RP/EA) for the restoration of natural resources injured by the release of fuel oil from the 1997 grounding of the M/V Kuroshima near the City of Unalaska, Alaska. The purpose of this notice is to inform the public of the availability of the Draft RP/EA and the opportunity to comment. All persons affected by, or otherwise interested in, the proposed restoration plan are invited to submit written comments and attend a public meeting in Unalaska on the proposed plan.

DATES: Comments on the Draft RP/EA must be submitted in writing on or before December 21, 2001. A public meeting has been scheduled November 26, 2001. Detail on this meeting is provided in the SUPPLEMENTARY INFORMATION section.

ADDRESSES: Comments and requests for the Draft RP/EA should be submitted to: Douglas Helton, National Oceanic and Atmospheric Administration, Damage Assessment Center, 7600 Sand Point Way, Seattle, WA, 98115. Alternatively, comments may be submitted electronically to the following E-mail address: Doug.Helton@NOAA.GOV. All comments received, including names and addresses, will become part of the public record.

FOR FURTHER INFORMATION CONTACT: Douglas Helton, NOAA Damage Assessment Center, 7600 Sand Point Way, Seattle, WA, 98115, or visit the M/V Kuroshima web site at: www.darcnw.noaa.gov/kuro.htm

SUPPLEMENTARY INFORMATION:

Background

On November 26, 1997, the M/V Kuroshima, a 368-foot frozen seafood freighter dragged anchor and ran aground in Summer Bay on Unalaska Island, near Dutch Harbor, Alaska. Thirty-nine thousand gallons of heavy fuel oil were spilled. Much of the oil was blown upstream into Summer Bay Lake, which borders Summer Bay, with the remainder stranding along Summer Bay Beach and nearby shorelines. After reviewing a variety of potential injuries to natural resources and their services, the Trustees have identified five categories of natural resources and services adversely affected by the M/V Kuroshima spill that justify restoration: seabirds, salmon, vegetation, shellfish and intertidal biota, and recreational services.

Under the Oil Pollution Act of 1990 (OPA), Federal and State natural resource trustee agencies are authorized to determine the nature and extent of natural resource injuries, select appropriate restoration projects, and implement or oversee restoration. One goal under OPA is to make the public whole for injuries to natural resources and their services resulting from the release of oil. In consultation with the Qawalangin Tribe of Unalaska, the National Oceanic and Atmospheric Administration, the U.S. Fish and Wildlife Service, the Alaska Department of Fish and Game, the Alaska Department of Natural Resources, and the Alaska Department of Law (the Trustees) developed a Draft Restoration Plan and Environmental Assessment (Draft RP/EA) that addresses the natural resource and service injuries identified by the Trustees.

The primary purpose of this Notice is to inform the public of the availability of the Draft RP/EA, and solicit public comment on the proposed restoration actions. The Draft RP/EA includes: removing introduced predators to enhance nesting success for seabird populations affected by the spill; restoring dune vegetation; cleaning up beach debris; performing additional tests of intertidal shellfish; controlling shoreline erosion and lakeshore revegetation, managing salmon runs in the affected lake, and funding equipment and curriculum development for an environmental education camp for local youths.

Public Meeting

The Trustees have scheduled a public meeting for November 26, 2001, from 6:30 pm to 8:30 pm at the Unalaska City Hall, 43 Raven Way, Unalaska, Alaska. The purpose of this meeting will be to discuss the Draft RP/EA and solicit public comments.

Administrative Record

The Trustees have compiled a public record (Administrative Record) to support their restoration planning decisions and inform the public of the basis of their decisions. Additional information and documents, including public comments received on the Draft RP/EA, the Final RP/EA, and other related restoration planning documents, will also become a part of the Administrative Record, and will be submitted to a public repository upon their completion.

The documents comprising the public record (Administrative Record) can be viewed at the following locations: NOAA DANW, 7600 Sand Point Way, NE Seattle, Washington 98115, Contact Doug Helton at (206) 526-4563, or Doug.Helton@NOAA.GOV; The Qawalangin Tribe of Unalaska, 205 West Broadway, Unalaska, AK 99685, Contact Jacob Stepetin at (907-581-2920); and the U.S. Department of Justice, 801 B Street, Suite 504, Anchorage, Alaska 99501, Contact Lorraine Carter at 907-271-5452.

Dated: November 2, 2001.
Jamison S. Hawkins,
Deputy Assistant Administrator for Ocean Services and Coastal Zone Management.

[FR Doc. 01-29107 Filed 11-20-01; 8:45 am]

BILLING CODE 3510-JE-P